DEPARTMENT OF COMMERCE

Bureau of Industry and Security

[Docket No. 070619210-7489-02]

Request for Public Comments on a Systematic Review of the Commerce Control List

AGENCY: Bureau of Industry and Security, Commerce.

ACTION: Notice of Inquiry; extension of comment period.

SUMMARY: This notice extends the comment period on a July 17, 2007 notice of inquiry in which the Bureau of Industry and Security (BIS) solicited comments from the public regarding the Commerce Control List (CCL) in the Export Administration Regulations (EAR). This extension of time would allow the public additional time to comment on the notice of inquiry.

DATES: Comments must be received by November 1, 2007.

ADDRESSES: Written comments on this notice of inquiry may be sent by e-mail to publiccomments@bis.doc.gov. Include “Notice of Inquiry—CCL” in the subject line of the message. Comments may also be submitted by mail or hand delivery to Timothy Mooney, Office of Exporter Services, Regulatory Policy Division, Bureau of Industry and Security, Department of Commerce, 14th St. & Pennsylvania Avenue, NW., Room 2705, Washington, DC. 20230, ATTN: Notice of Inquiry—CCL; or by fax to (202) 482-3355.

FOR FURTHER INFORMATION CONTACT: Timothy Mooney, Regulatory Policy Division, Bureau of Industry and Security, Telephone: (202) 482-2440, E-mail: tmooney@bis.doc.gov.

SUPPLEMENTARY INFORMATION:

Background

On July 17, 2007, the Bureau of Industry and Security (BIS) published a notice of inquiry in the Federal Register (72 FR 39052) that invited the public to submit comments regarding the Commerce Control List (CCL) in the Export Administration Regulations (EAR).

The notice indicated that, in addition to seeking recommendations from its Technical Advisory Committees (TACs) as a part of a systematic review of the CCL, BIS believed that it would also be beneficial to allow interested members of the public to submit comments regarding the CCL.

Specifically, in addition to seeking recommendations from its TACs, BIS invited the interested public to submit comments regarding:

(1) The overall structure of the CCL, including suggestions for how the structure of the CCL may be changed to better advance U.S. national security, foreign policy, and economic interests;

(2) Types of items that should be listed on the CCL and the appropriate levels of controls to be placed on those items, taking into account technology levels, markets, and foreign availability;

(3) Any updates to the CCL item descriptions that would enable the descriptions to better reflect the intent of the multinational controls and to eliminate any overly broad descriptions that inadvertently capture non-critical items that are not controlled by other countries; and

(4) Coordination and harmonization of controls on items covered by the multilateral regimes, such as the Wassenaar Arrangement.

The notice of inquiry indicated that the deadline for public comments closes on September 17, 2007. BIS is now extending the comment period until November 1, 2007, to allow the public additional time to comment on the notice of inquiry.

Dated: August 30, 2007.
Tom Andrukonis,
Acting, Director, Office of Exporter Services.

[FR Doc. E7-17639 Filed 9-5-07; 8:45 am]

BILLING CODE 3510-33-P